DEPARTMENT OF THE INTERIOR

Bureau of Reclamation

Glen Canyon Dam Adaptive Management Work Group (AMWG)

AGENCY: Bureau of Reclamation, Interior.

ACTION: Notice of public meeting (webinar conference call).

SUMMARY: The Glen Canyon Dam Adaptive Management Program (AMP) was implemented as a result of the Record of Decision on the Operation of Glen Canyon Dam Final Environmental Impact Statement to comply with consultation requirements of the Grand Canyon Protection Act (Pub. L. 102-575) of 1992. The AMP includes a Federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

DATE AND TIME: The May 6, 2010, AMWG meeting will begin at 2 p.m. (EDT), 12 p.m. (MDT), and 11 a.m. (PDT) and conclude three (3) hours later in the respective time zones.

Conference Call Phone Number: The dial in number for the conference call is 203-320-3258; the pass code is: 1421568. The toll free number is: 888-790-7012; the pass code is: 1421568. There will be limited ports available, so if you wish to participate, please contact Linda Whetton at 801-524-3880 by April 30, 2010, to register.

Webex Webinar Information: In addition to the conference call line, a WebEx webinar has been set up for this meeting. The WebEx webinar Web site for the May 6, 2010 AMWG meeting is: https://usgs.webex.com/usgs/j.php?ED=135461657&UID=1123935522. The WebEx webinar does not have audio functionality so if you plan to participate in the webinar, you must dial into the telephone number listed above.

If you plan to participate in the meeting via WebEx, please ensure your system is able to connect by going to http://www.webex.com/lp/jointest/. You can also “take a tour” at http://www.webex.com/go/quick_tour.

A one hour “test run” will be conducted on Wednesday, April 21, 2010, at 2 p.m. (EDT), 12 p.m. (MDT), and 11 a.m. (PDT) to ensure that the connections work properly. The one hour test Web site is: https://usgs.webex.com/usgs/j.php?ED=135461697&UID=1123935637.

Note: If you have difficulties accessing the test or AMWG meeting using the Web sites above, attendees can browse for the WebEx meeting from the main USGS WebEx page: http://usgs.webex.com. Enter “Glen Canyon Dam” in the search box at the top of the page, and then click on the meeting in which you would like to participate. Recognizing some computers may have difficulty accessing the platform, you are encouraged to call the WebEx number for technical assistance: 866-229-3239. If you cannot do the test run, contact Mary Daugherty (928-556-7217) at the Grand Canyon Monitoring and Research Center and arrange another time.

To view a copy of the agenda and documents related to the above meeting, please visit Reclamation's Web site at: http://www.usbr.gov/uc/rm/amp/amwg/mtgs/10may06CC/index.html.

ADDRESSES: Time will be allowed for any individual or organization wishing to make formal oral comments on the call. To allow for full consideration of information by the AMWG members, written notice must be provided to Dennis Kubly, Bureau of Reclamation, Upper Colorado Regional Office, 125 South State Street, Room 6107, Salt Lake City, Utah, 84138; telephone 801-524-3715; facsimile 801-524-3858; e-mail at dkubly@usbr.gov at least five (5) days prior to the call. Any written comments received will be provided to the AMWG members.

FOR FURTHER INFORMATION CONTACT: Dennis Kubly, Bureau of Reclamation, telephone 801-524-3715; facsimile 801-524-3858; e-mail at dkubly@usbr.gov.

SUPPLEMENTARY INFORMATION: The purpose of the conference call will be for the AMWG to review the AMP Proposed New Budget Process and Draft Budget for Fiscal Years 2011-12.

Before including your name, address, phone number, e-mail address, or other personal identifying information in your comment, you should be aware that your entire comment—including your personal identifying information—may be made publicly available at any time. While you can ask us in your comment to withhold your personal identifying information from public review, we cannot guarantee that we will be able to do so.

Dated: April 13, 2010.
Dennis Kubly,
Chief, Adaptive Management Group, Environmental Resources Division, Upper Colorado Regional Office, Salt Lake City, Utah.

[FR Doc. 2010-8896 Filed 4-16-10; 8:45 am]

BILLING CODE 4310-MN-P